DEPARTMENT OF COMMERCE

International Trade Administration

[A-533-808]

Certain Stainless Steel Wire Rods From India: Final Results of the Expedited Sunset Review of the Antidumping Duty Order

AGENCY: Import Administration, International Trade Administration, Department of Commerce.

SUMMARY: On July 1, 2011, the Department of Commerce (the Department) initiated the third sunset review of the antidumping duty order on certain stainless steel wire rods from India, pursuant to section 751(c) of the Tariff Act of 1930, as amended (the Act). See Initiation of Five-Year (“Sunset”) Review, 76 FR 38613 (July 1, 2011) (Notice of Initiation). The Department has conducted an expedited (120-day) sunset review of this order. As a result of this sunset review, the Department finds that revocation of the antidumping duty order would be likely to lead to continuation or recurrence of dumping as indicated in the “Final Results of Review” section of this notice.

DATES: Effective Date: November 2, 2011.

FOR FURTHER INFORMATION CONTACT: Dustin Ross or Minoo Hatten, AD/CVD Operations, Office 1, Import Administration, International Trade Administration, U.S. Department of Commerce, 14th Street and Constitution Avenue NW., Washington, DC 20230; telephone: (202) 482-0747 or (202) 482-1690, respectively.

SUPPLEMENTARY INFORMATION:

Background

On July 1, 2011, the Department published the notice of initiation of the sunset review of the antidumping duty order on certain stainless steel wire rods from India (wire rods) ¹ pursuant to section 751(c) of the Act. See Notice of Initiation.

¹ Antidumping Duty Order: Certain Stainless Steel Wire Rods from India, 58 FR 63335 (December 1, 1993).

The Department received a notice of intent to participate on behalf of Carpenter Technology Corporation (the petitioner) within the deadline specified in 19 CFR 351.218(d)(1)(i). The petitioner claimed interested-party status under section 771(9)(C) of the Act as a manufacturer of a domestic like product for the proceeding.

The Department received a complete substantive response to the Notice of Initiation from the petitioner within the 30-day period specified in 19 CFR 351.218(d)(3)(i). The Department received no substantive responses from any respondent interested parties. In accordance with section 751(c)(3)(B) of the Act and 19 CFR 351.218(e)(1)(ii)(C)(2), the Department is conducting an expedited (120-day) sunset review of the antidumping duty order on certain stainless steel wire rods from India.

Scope of the Order

The merchandise covered by the antidumping duty order is wire rods, which are hot-rolled or hot-rolled annealed and/or pickled rounds, squares, octagons, hexagons or other shapes, in coils. Wire rods are made of alloy steels containing, by weight, 1.2 percent or less of carbon and 10.5 percent or more of chromium, with or without other elements. These products are only manufactured by hot-rolling and are normally sold in coiled form, and are of solid cross section. The majority of wire rods sold in the United States are round in cross-section shape, annealed, and pickled. The most common size is 5.5 millimeters in diameter.

The wire rods subject to this order are currently classifiable under subheadings 7221.00.0005, 7221.00.0015, 7221.00.0030, 7221.00.0045, and 7221.00.0075 of the Harmonized Tariff Schedule of the United States (HTSUS). Although the HTSUS subheadings are provided for convenience and customs purposes, the written description of the merchandise subject to the order is dispositive.

Analysis of Comments Received

All issues raised in this sunset review are addressed in the “Issues and Decision Memorandum for the Expedited Sunset Review of the Antidumping Duty Order on Certain Stainless Steel Wire Rods from India” from Christian Marsh, Deputy Assistant Secretary for Antidumping and Countervailing Duty Operations, to Paul Piquado, Assistant Secretary for Import Administration, dated concurrently with this notice (Issues and Decision Memo), which is hereby adopted by this notice. The issues discussed in the Issues and Decision Memo include the likelihood of continuation or recurrence of dumping and the magnitude of the margin of dumping likely to prevail if the order were revoked. Parties can find a complete discussion of the issues raised in this sunset review and the corresponding recommendations in this public memorandum, which is on file electronically via Import Administration's Antidumping and Countervailing Duty Centralized Electronic Service System (IA ACCESS). Access to IA ACCESS is available in the Central Records Unit (CRU), room 7046 of the main Department of Commerce building. In addition, a complete version of the Issues and Decision Memo can be accessed directly on the internet at http://www.trade.gov/ia/. The signed Issues and Decision Memo and the electronic versions of the Issues and Decision Memo are identical in content.

Final Results of Review

The Department determines that revocation of the antidumping duty order on certain stainless steel wire rods from India would be likely to lead to continuation or recurrence of dumping at the following weighted-average percentage margins:

Company | Weighted-average margin (percent)
Mukand Ltd | 48.80
Sunstar Metals Ltd | 48.80
Grand Foundry Ltd | 48.80
All Others | 48.80

Notification Regarding APO

This notice serves as the only reminder to parties subject to administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

The Department is issuing and publishing the final results and notice in accordance with sections 751(c), 752(c), and 777(i)(1) of the Act.

Dated: October 24, 2011.
Paul Piquado,
Assistant Secretary for Import Administration.

[FR Doc. 2011-28411 Filed 11-1-11; 8:45 am]

BILLING CODE 3510-DS-P